DEPARTMENT OF ENERGY

Federal Energy Regulatory Commission

[Docket No. OR19-1-000]

Southwest Airlines Co., United Aviation Fuels Corporation v. Colonial Pipeline Company; Notice of Complaint

Take notice that on October 9, 2018, pursuant to Rules 206, 343.1(a), and 343.2 of the Federal Energy Regulatory Commission's (Commission) Rules and Regulations,¹ Southwest Airlines Co. and United Aviation Fuels Corporation (jointly, Complainants) filed a formal complaint against Colonial Pipeline Company (Respondent) challenging the justness and reasonableness of the Respondent's (1) cost-based transportation rates in FERC Tariff No. 99.39.0 and predecessor tariffs; (2) market-based rate authority and rates charged pursuant to that authority; and (3) charges relating to product loss allocation and transmix, all as more fully explained in the complaint.

¹ 18 CFR 385.206, 18 CFR 343.1(a), and 343.2(c) (2018).

Joint Complainants certify that copies of the complaint were served on the contacts for the Respondent as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the eFiling link at http://www.ferc.gov. Persons unable to file electronically should submit an original and 5 copies of the protest or intervention to the Federal Energy Regulatory Commission, 888 First Street NE, Washington, DC 20426.

This filing is accessible on-line at http://www.ferc.gov, using the eLibrary link and is available for electronic review in the Commission's Public Reference Room in Washington, DC. There is an eSubscription link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on November 8, 2018.

Dated: October 11, 2018.
Nathaniel J. Davis, Sr.,
Deputy Secretary.

[FR Doc. 2018-22628 Filed 10-16-18; 8:45 am]

BILLING CODE 6717-01-P